DEPARTMENT OF THE TREASURY

Alcohol and Tobacco Tax and Trade Bureau

27 CFR Part 9

[Docket No. TTB-2013-0004; Notice No. 135]

RIN 1513-AB96

Proposed Establishment of the Eagle Peak Mendocino County Viticultural Area and Realignments of the Mendocino and Redwood Valley Viticultural Areas

AGENCY: Alcohol and Tobacco Tax and Trade Bureau, Treasury.

ACTION: Notice of proposed rulemaking.

SUMMARY: The Alcohol and Tobacco Tax and Trade Bureau (TTB) proposes to establish the approximately 26,260-acre “Eagle Peak Mendocino County” viticultural area in northern California. TTB also proposes to modify the boundaries of the existing Mendocino viticultural area and the Redwood Valley viticultural area. The proposed boundary modifications would decrease the size of the 327,437-acre Mendocino viticultural area by 1,900 acres and decrease the size of the 32,047-acre Redwood Valley viticultural area by 1,430 acres. The proposed modifications of the two existing viticultural areas would eliminate potential overlaps with the proposed Eagle Peak Mendocino County viticultural area. The proposed viticultural area and the two existing viticultural areas all lie entirely within Mendocino County, California, and the multi-county North Coast viticultural area. TTB designates viticultural areas to allow vintners to better describe the origin of their wines and to allow consumers to better identify wines they may purchase. TTB invites comments on these proposals.

DATES: TTB must receive your comments on or before August 26, 2013.

ADDRESSES: Please send your comments on this proposal to one of the following addresses:

• http://www.regulations.gov (via the online comment form for this document as posted within Docket No. TTB-2013-0004 at “Regulations.gov,” the Federal e-rulemaking portal);

• U.S. mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200E, Washington, DC 20005.

See the Public Participation section of this document for specific instructions and requirements for submitting comments, and for information on how to request a public hearing.

You may view copies of this document, selected supporting materials, and any comments TTB receives about this proposal at http://www.regulations.gov within Docket No. TTB-2013-0004. A link to that docket is posted on the TTB Web site at http://www.ttb.gov/wine/wine-rulemaking.shtml under Notice No. 135. You also may view copies of this document, all related petitions, maps or other supporting materials, and any comments TTB receives about this proposal by appointment at the TTB Information Resource Center, 1310 G Street NW., Washington, DC 20005. Please call 202-453-2270 to make an appointment.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated January 21, 2003, to the TTB Administrator to perform the functions and duties in the administration and enforcement of this law.

Part 4 of the TTB regulations (27 CFR part 4) allows the establishment of definitive viticultural areas and the use of their names as appellations of origin on wine labels and in wine advertisements. Part 9 of the TTB regulations (27 CFR part 9) sets forth standards for the preparation and submission of petitions for the establishment or modification of American viticultural areas and lists the approved American viticultural areas.

Definition

Section 4.25(e)(1)(i) of the TTB regulations (27 CFR 4.25(e)(1)(i)) defines a viticultural area for American wine as a delimited grape-growing region having distinguishing features as described in part 9 of the regulations and a name and a delineated boundary as established in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.12 of the TTB regulations (27 CFR 9.12) prescribes standards for petitions for the establishment or modification of American viticultural areas. Petitions to establish a viticultural area must include the following:

• Evidence that the area within the proposed viticultural area boundary is nationally or locally known by the viticultural area name specified in the petition;

• An explanation of the basis for defining the boundary of the proposed viticultural area;

• A narrative description of the features of the proposed viticultural area that affect viticulture, such as climate, geology, soils, physical features, and elevation, that make the proposed viticultural area distinctive and distinguish it from adjacent areas outside the proposed viticultural area boundary;

• A copy of the appropriate United States Geological Survey (USGS) map(s) showing the location of the proposed viticultural area, with the boundary of the proposed viticultural area clearly drawn thereon; and

• A detailed narrative description of the proposed viticultural area boundary based on USGS map markings.

Petitions to modify the boundary of an existing viticultural area which would result in a decrease in the size of an existing viticultural area must include the following:

• An explanation of the extent to which the current viticultural name does not apply to the excluded area;

• An explanation of how the distinguishing features of the excluded area are different from those within the boundary of the smaller viticultural area; and

• An explanation of how the boundary of the existing viticultural area was incorrectly or incompletely defined or is no longer accurate due to new evidence or changed circumstances.

Eagle Peak Mendocino County Establishment Petition; Mendocino and Redwood Valley Modification Petitions

TTB received three petitions on behalf of local grape growers from Mr. Ralph Jens Carter, one proposing the establishment of the “Eagle Peak Mendocino County” viticultural area and two separate companion petitions proposing the modification of the boundaries of the existing “Mendocino” (27 CFR 9.93) and “Redwood Valley” (27 CFR 9.153) viticultural areas. The proposed viticultural area and the two existing viticultural areas lie entirely within Mendocino County and the multi-county North Coast viticultural area (27 CFR 9.30) in northern California. The proposed Eagle Peak Mendocino County viticultural area contains approximately 26,260 acres, of which approximately 120 acres are in 16 commercial vineyards. The proposed viticultural area lies to the west of both the Redwood Valley viticultural area and the eastern portion of the V-shaped Mendocino viticultural area.

A small portion of the proposed Eagle Peak Mendocino County viticultural area would, if established, overlap portions of the established Mendocino and Redwood Valley viticultural areas. To eliminate the potential overlaps, the petitioner proposed to modify the boundaries of the Mendocino and Redwood Valley viticultural areas. The proposed boundary modifications would eliminate the potential overlap and would remove the overlapped areas from the Mendocino and Redwood Valley viticultural areas. The proposed modifications would reduce the size of the 32,047-acre Redwood Valley viticultural area boundary by approximately 1,430 acres and reduce the size of the 327,437-acre Mendocino viticultural area by approximately 1,900 acres.

Two vineyards, Golden Vineyards and Masut Vineyards, currently exist within the area of the proposed boundary modification. The western portion of the Redwood Valley viticultural area boundary currently runs through both vineyards, splitting each property between the Redwood Valley and Mendocino viticultural areas. If TTB adopts the proposed boundary modifications, the division would be eliminated and both vineyards would lie wholly within the proposed Eagle Peak Mendocino County viticultural area. The affected growers have both provided TTB with written support for the proposed modification of the boundaries of the Mendocino and Redwood Valley viticultural areas, and they support the establishment of the proposed Eagle Peak Mendocino County viticultural area.

The distinguishing features of the proposed viticultural area include climate, geology, topography, and soils. Unless otherwise noted, all information and data contained in the below sections are from either the petition to establish the proposed Eagle Peak Mendocino County viticultural area and its supporting exhibits or the companion petitions to modify the boundaries of the established Mendocino and Redwood Valley viticultural areas.

Eagle Peak Mendocino County

Name Evidence

Eagle Peak is a prominent summit within the proposed Eagle Peak Mendocino County viticultural area, and various sources list “Eagle Peak” as a name associated with the proposed viticultural area. The United States Geological Survey (USGS) Laughlin Range map identifies a 2,699-foot elevation point, approximately 6 miles west of the Redwood Valley Rancheria, as Eagle Peak. The United States Department of Agriculture Soil Survey, Mendocino County, Eastern Part, Sheet 26, identifies a mountain summit north of Jack Smith Creek and south of Mill Creek as Eagle Peak, and the USGS Geographic Names Information System (GNIS) lists Eagle Peak as a summit in Mendocino County. A mountain pass in the Laughlin Range within the proposed viticultural area is designated as “Eagle Peak Crossing.” Although the pass is not marked on the USGS maps, the petitioner provided a photograph of a road sign that marks the latitude, longitude, and elevation of the pass, as well as its name.

Section 9.12(a)(1)(ii) of TTB regulations allows local businesses and road names to be used as evidence that the region of a proposed viticultural area is known by the proposed name. Because the proposed viticultural area is in a mountainous, rural region, there are few businesses within it and few named roads shown on the USGS maps. However, the petitioner provided a Mendocino County land parcel map that shows an Eagle Peak Road and an Eagle Peak Court within the proposed viticultural area. The petitioner also provided a page from the Western Bison Association's internet directory that shows a listing for Eagle Peak Bison Ranch, which is located within the proposed viticultural area. Finally, because § 9.12(a)(1)(ii) allows anecdotal evidence taken from local residents with knowledge of the name and its use to be presented to support other name evidence, the petitioner provided a petition signed by several local residents attesting that the area of the proposed viticultural area is known as “Eagle Peak.”

The GNIS lists 47 summits in the United States designated as “Eagle Peak,” including 16 others in California. Therefore, the petition included the modifier “Mendocino County” in the proposed name, to pinpoint the geographical location of the proposed viticultural area and avoid potential confusion for consumers.

Boundary Evidence

The proposed Eagle Peak Mendocino County viticultural area is located approximately 125 miles north of San Francisco, in a climatic transition zone between the cooler Pacific coast and the hotter inland valleys. The proposed viticultural area extends from the Redwood Valley to the south, northward to just south of the small community known as Ridge, California.

The proposed viticultural area consists mostly of steep upland terrain. The western portion of the boundary of the proposed viticultural area is formed by a ridge of the California Coast Range. The steep peaks of the Laughlin Range form the northern portion of the proposed boundary and gradually descend to the lower, flatter land of Little Lake Valley near Willits, a town north of the proposed viticultural area. The proposed eastern and southeastern portions of the boundary are marked by lower elevations that descend to the nearly level floors of the Redwood and Ukiah Valleys, outside of the proposed viticultural area.

The boundary of the proposed Eagle Peak Mendocino County viticultural area also encompasses the Forsythe Creek watershed. Drainage begins within the proposed viticultural area at the headwaters of Forsythe Creek, which joins downstream with the Walker, Mill, and Seward Creeks, and continues to the confluence with the Russian River headwaters in Redwood Valley, southeast of the proposed boundary.

The boundary of the proposed Eagle Peak Mendocino County viticultural area and the related modifications to the Mendocino and Redwood Valley viticultural areas differ slightly from those outlined in the original petitions. With the petitioner's agreement, TTB made several small adjustments to the originally-proposed boundaries in order to use features found on all three map sets, since the Mendocino area's maps are of a different scale than those used for the other two areas. The petitioner also revised the proposed Eagle Peak Mendocino County boundary in order to eliminate the inclusion of some Redwood Valley floor land in the proposed viticultural area's southeastern corner.

Distinguishing Features

Climate

The proposed Eagle Peak Mendocino County viticultural area has a transitional climate between the cool, wet climate of the Pacific coastline and the warmer, drier air of the interior valleys. This transitional climate influences grape-growing practices within the proposed viticultural area.

Temperatures: The year-round temperatures of the proposed viticultural area are influenced by cool, moist air from the Pacific Ocean, which moderates daily temperatures and seasonal temperature variations. Data submitted with the petition shows an average of only 22 days per year with temperatures over 90 degrees Fahrenheit (F) within the proposed viticultural area and only a 25 degree difference in average temperature between the average warmest month and average coldest month. The moderate temperatures can be attributed, in part, to coastal fog. Although the Coastal Range blocks the heaviest of the marine fog from moving farther inland, some fog does enter the proposed viticultural area through a gap in the Coastal Range known as the Big River airflow corridor, located at the headwaters of the Big River near the peak known as Impassable Rocks. The fog then travels farther into the proposed viticultural area along stream beds and creeks, gradually dissipating as it moves east.

The steep upland terrain of the proposed viticultural area also plays a role in moderating temperatures. At night, cold air drains off the mountain slopes and into the lower elevations of the neighboring Ukiah Valley and Redwood Valley, resulting in warmer nighttime temperatures within the proposed viticultural area than in the valleys. Because the cold nighttime air drains off of the higher elevations, the fluctuations between daytime and nighttime temperatures (diurnal shifts) within the proposed viticultural area are moderate, averaging 20.6 degrees during the growing season. According to the petition, relatively constant temperatures during the ripening period with less fluctuation between day and night temperatures encourage the complete development of color, flavor, and aroma in grapes.

By contrast, the region to the west of the proposed Eagle Peak Mendocino County viticultural area is more exposed to the cool, moist air flowing inland from the Pacific Ocean. As a result, fog is heavier and longer lasting within this region than within the proposed viticultural area. The cool, moist, foggy climate to the west of the proposed viticultural area promotes the growth of fungus on grapes and inhibits ripening, as contrasted to the drier, warmer conditions of the proposed Eagle Peak Mendocino County viticultural area, which reduce the threat of fungus and provide better ripening conditions. Additionally, the heavier fog results in cooler year-round temperatures with smaller seasonal fluctuations than within the proposed viticultural area. The town of Fort Bragg, located on the Pacific coast, averages only an 8 degree difference in temperatures between the warmest and coldest months of the year, compared to the 25 degree difference for the proposed viticultural area.

The region north of the proposed Eagle Peak Mendocino County viticultural area is generally cooler and receives more snowfall annually. Frosts can occur in almost any month except July and August. Climate data obtained by TTB from the online Western Regional Climate Center database ¹ shows that the town of Willits, north of the proposed viticultural area, has an average annual maximum temperature of only 69 degrees F and no months averaging highs over 90 degrees F. Because of its greater distance from both the Pacific coast and the Big River airflow corridor, Willits also experiences a larger difference in temperature between the warmest and coolest months than the proposed viticultural area, with an average temperature difference of 31 degrees.

¹ From www.wrcc.dri.edu. The period of record for this climate summary is 1902 through 2011.

To the east and south of the proposed viticultural area, the Redwood and Ukiah Valleys are not as affected by the marine air as the proposed viticultural area. Although much of the fog and cool breezes that pass through the Big River airflow corridor dissipate the farther east they travel, some cool, moist air occasionally reaches the valleys, but not as often or in the same quantitative amount as within the proposed viticultural area. As a result, the temperatures in the Redwood and Ukiah valleys are significantly higher than in the proposed Eagle Peak Mendocino County viticultural area. Data submitted with the petition shows the number of days per year with temperatures over 90 degrees F averages 80 in the Ukiah Valley and 64 in the Redwood Valley, compared to an average of only 22 days per year with temperatures over 90 degrees F within the proposed viticultural area. The temperature difference between the coolest and warmest months is also greater within the inland valleys than within the proposed viticultural area, with the Ukiah Valley averaging a 55 degree difference. Finally, due to the cool air draining off the higher elevations at night, the valleys experience a greater fluctuation between daytime highs and nighttime lows than the proposed viticultural area. For example, daily temperature fluctuations within Redwood Valley average 33.7 degrees during the growing season, and fluctuations of more than 40 degrees are not uncommon.

Wind: The Big River airflow corridor also plays a role in the summer winds that are common throughout the proposed Eagle Peak Mendocino County viticultural area. During the summer, hot air rises from the Redwood, Potter, and Ukiah Valleys east and south of the proposed viticultural area, creating low pressure at ground level. The low pressure pulls cooler marine air from the Pacific Ocean through the Big River airflow corridor and into the proposed Eagle Peak Mendocino County viticultural area, resulting in frequent winds. The breezes dissipate as they move east. As a result, breezes are lighter and less frequent in the valleys to the east and south of the proposed viticultural area.

Wind speed measurements, taken in miles per hour (mph), were recorded at various times during the growing season in vineyards within the proposed Eagle Peak Mendocino County viticultural area and the neighboring Redwood Valley viticultural area, located to the east of the proposed viticultural area. The data in the table below was included with the petition.

Wind Patterns
2009 | Proposed Eagle Peak Mendocino County viticultural area (Masut Vineyards) | Redwood Valley viticultural area (Elizabeth Vineyards)
June 18
Average | 7 mph | 2 mph.
Gusts | 15 mph | 5 mph.
July 22
Average | 10 mph | 5 mph.
Gusts | 18 mph | 8 mph.
August 14
Average | 5 mph | 1 mph.
Gusts | 8 mph | 3 mph.
September 3
Average | 5 mph | 0 mph.
Gusts | 10 mph | 2 mph.

The data in the table demonstrates that the proposed Eagle Peak Mendocino County viticultural area is significantly windier throughout the growing season than Redwood Valley, which is located at lower elevations to the east.

The winds in the proposed Eagle Peak Mendocino County viticultural area affect grape growing. According to the petitioner, the cool breezes lower the temperature, but are not so strong as to damage the vines or fruits. The breezes also lower humidity, reducing the development of grape rot. Furthermore, light breezes somewhat delay the ripening process by stimulating leaf pores to close, thereby reducing photosynthesis. The longer ripening process allows the flavor components to develop before the acid levels drop too low.

Geology

The proposed Eagle Peak Mendocino County viticultural area has two primary rock types: sandstone and shale. Sandstone is a marine sedimentary rock found in the coastal belt that includes some Franciscan Complex and early Tertiary micro-fossils of 65 to 1.5 million years old. Shale is older Franciscan Complex, from the Cretaceous and Jurassic periods, 65 to 195 million years ago. The Franciscan sediments are characterized by unstable rocks on steep terraces and slopes and soils with nickel and high magnesium levels and relatively shallow rooting depths of 4 to 40 inches.

To the immediate north and south of the proposed Eagle Peak Mendocino County viticultural area is a geological continuation of the Franciscan Complex. Farther north, the valleys near Willits contain Quaternary alluvium, as do Redwood and Ukiah Valleys to the east and southeast. Quaternary alluvium is between 1.5 million years to 11,000 years old, significantly younger than the rocks of the proposed Eagle Peak Mendocino County viticultural area. The alluvial sediments have rooting depths of 60 inches or more. To the west, southwest, and northwest of the proposed viticultural area is only sandstone, with no shale.

Growing wine grapes in the Franciscan formation soil of the proposed viticultural area requires special care due to the chemical elements in the rocks. Rocks in the formation contain nickel, which is toxic to grapes. High levels of magnesium, which are also found in the Franciscan formation, can affect the uptake of potassium, an element vital to good fruit production. However, the thin, rocky soil does lead to fewer leaves, resulting in naturally good canopy-light relations. Vines growing in the thicker alluvial soils of valleys to the north, east, and southeast produce more leaves and therefore require more specialized trellising and canopy management techniques to achieve good canopy-light relations.

Topography

The topography of the proposed Eagle Peak Mendocino County viticultural area includes an abundance of rolling-to-steep terrain, high elevations, and moderate-to-steep slope angles.

Elevations: Elevations vary from 800 to 3,320 feet within the proposed Eagle Peak Mendocino County viticultural area, according to the USGS maps. Prominent elevations include Eagle Peak at 2,699 feet, Irene Peak at 2,836 feet, and the 3,320-foot crest of Laughlin Ridge. High elevations occur throughout the proposed viticultural area, with the exception of the 800-foot elevations along its proposed eastern boundary where Forsythe and Seward Creeks flow into Redwood Valley and towards the Russian River. The high elevations within the proposed Eagle Peak Mendocino County viticultural area protect vineyards from frost during the spring and autumn because the cool air drains off the slopes at night and settles in the lower elevations of the valleys outside of the proposed viticultural area.

The elevations outside the proposed Eagle Peak Mendocino County viticultural area vary, but are generally lower than those within the proposed viticultural area. To the north of the proposed viticultural area, the Laughlin Range and Ridgewood summit slopes, which form the northern boundary of the proposed viticultural area, gradually descend from a peak of 3,320 feet at the northeast corner of the proposed viticultural area to approximately 1,100 feet in Little Lake Valley around Willits, farther to the north. To the east of the proposed viticultural area, the Redwood Valley has lower elevations of between 508 and 800 feet. To the south of the proposed viticultural area are rolling hills with elevations between 1,863 and 2,571 feet, which gradually descend to the Ukiah Valley, with an elevation of approximately 700 feet. To the west of the proposed viticultural area, the terrain descends from approximately 2,000 feet to sea level at the Pacific coastline.

Slope Angle and Aspect: The proposed Eagle Peak Mendocino County viticultural area slopes are generally southerly-facing and moderately to very steep, with angles between 30 to 50 percent as calculated by the petitioner using USGS maps. The steep slopes encourage good air circulation, which prevents frosts and heavy fogs that can damage grapevines. Steep slopes also promote water drainage and prevent an excess of standing water, although the steepness creates a high erosion hazard that must be considered when planting vineyards. The southerly solar aspect of the slopes enables the soil to warm faster in the spring, promoting early vine growth. The warmer soil temperatures also encourage the production of cytokinin (plant hormones), which contributes to early grape ripening.

The Laughlin Range and Ridgewood Summit, with 30 to 50 percent slope angles, form the northern portion of the proposed boundary. However, as the terrain continues northward beyond the proposed viticultural area, it quickly changes from steep to mild slopes, with near-level angles in Little Lake Valley. In contrast to the southerly-facing slopes of the proposed viticultural area, the slopes in this northern region generally face north. Northerly-facing slopes are generally cooler and more susceptible to frost than southerly-facing slopes.

To the east, the Redwood Valley is nearly level, with slope angles of 2 to 8 percent. Cool air run-off from the steep mountainsides of the proposed viticultural area settles in the flatter terrain of the valley during spring and autumn nights, creating more of a frost threat in the valley than on the slopes. The valley terrain is less efficient at shedding excess water than the more steeply sloped terrain of the proposed viticultural area, but the gentler slope angles of the valley create less of an erosion hazard.

To the south is moderately-sloped rolling, hilly terrain that dips into the nearly-level Ukiah Valley. The hillsides are generally east-facing and are blocked from much of the marine-influenced breezes and moisture that travel from the west and penetrate the proposed viticultural area.

To the immediate west are moderate-to-steep slope angles, similar to the terrain within the proposed Eagle Peak Mendocino County viticultural area. However, these slopes generally face west and are more exposed to heavy fog and cool, wet air from the Pacific Ocean than the southerly-facing slopes of the proposed viticultural area. The higher elevations and steep slopes west of the proposed viticultural area gradually descend to low elevations and gentle slopes as the land meets the coastline of the Pacific Ocean.

Soils

The defining characteristics of soils within the proposed Eagle Peak Mendocino County viticultural area include profoundly low water-holding capacity, shallow rooting depths, and high erosion potential, due to the composition of the soil and the steep slopes. The soils are classified as upland under grass and oaks, or under forest (fog-influenced). Primary soil associations are the Yorkville-Yorktree-Squawrock and Ornbaun-Zeni-Yellowhound associations. The soils retain enough water to allow the vines to come out of dormancy in the spring and make it through the “grand growth stage” without irrigation, but irrigation is required for the rest of the growing season. TTB notes that the “grand growth stage” is a period of rapid growth that follows early shoot development and typically continues until just after fruit set.²

² Hellman, E.W. “Grapevine Structure and Function.” Oregon Viticulture. Ed. E.W. Hellman. Corvallis, Oregon: Oregon State University Press, 2003.

To the north and south of the proposed viticultural area, the soils are upland soils under forest, typically covered with a mat of conifer needles. These soils have a moderate water-holding capacity. To the east and southeast, the valley floors of the Redwood Valley and Mendocino viticultural areas have alluvial soils with high water-holding capacity. The alluvial soils are able to retain adequate moisture later into the growing season, unlike the soils in the proposed Eagle Peak Mendocino County viticultural area, making irrigation less necessary. Additionally, the alluvial soils have deeper rooting depths and are not as susceptible to erosion as soils of the proposed Eagle Peak Mendocino County viticultural area. To the west, the soil types vary in water-holding capacity from very low to high, depending on whether they are alluvial (moderate-to-high capacity) or greywacke, shale, sandstone, and siltstone (very-low-to-high capacity).

Comparisons of the Proposed Eagle Peak Mendocino County Viticultural Area to the Existing North Coast Viticultural Area

The North Coast viticultural area was established by T.D. ATF-145, which was published in the Federal Register on September 21, 1983 (48 FR 42973). It includes all or portions of Napa, Sonoma, Mendocino, Solano, Lake, and Marin Counties, California. TTB notes that the North Coast viticultural area contains all or portions of approximately 40 established viticultural areas, in addition to the area covered by the proposed Eagle Peak Mendocino County viticultural area. In the conclusion of the “Geographical Features” section of the preamble, T.D. ATF-145 states that “[d]ue to the enormous size of the North Coast, variations exist in climatic features such as temperature, rainfall, and fog intrusion.”

The proposed Eagle Peak Mendocino County viticultural area shares the basic viticultural feature of the North Coast viticultural area: the marine influence that moderates growing season temperatures in the area. However, the proposed viticultural area is much more uniform in its geography, geology, climate, and soils than the diverse, multicounty North Coast viticultural area. In this regard, TTB notes that T.D. ATF-145 specifically states that “approval of this viticultural area does not preclude approval of additional areas, either wholly contained within the North Coast, or partially overlapping the North Coast,” and that “smaller viticultural areas tend to be more uniform in their geographical and climatic characteristics, while very large areas such as the North Coast tend to exhibit generally similar characteristics, in this case the influence of maritime air off of the Pacific Ocean and San Pablo Bay.” Thus, the proposal to establish the Eagle Peak Mendocino County viticultural area is not inconsistent with what was envisaged when the North Coast viticultural area was established.

Proposed Modification of the Mendocino and Redwood Valley Viticultural Areas

As previously noted, in addition to submitting a petition to establish the Eagle Peak Mendocino County viticultural area, the petitioner also submitted petitions to modify the boundaries of the established Mendocino and Redwood Valley viticultural areas. The Redwood Valley viticultural area is located entirely within the Mendocino viticultural area and shares the northern portion of its boundary with part of the northern boundary of the Mendocino viticultural area. The proposed Eagle Peak Mendocino County viticultural area is located to the west of both the Mendocino and Redwood Valley viticultural areas and as proposed would partially overlap portions of both viticultural areas. The proposed boundary modifications would reduce the sizes of the Mendocino and Redwood Valley viticultural areas by 1,900 acres and 1,430 acres, respectively, and would eliminate potential overlaps between the proposed viticultural area and the two existing viticultural areas.

According to the petitions, the modification would remove the steeper terrain of the proposed realignment area from the flatter, lower, valley-dominated elevations of the two existing viticultural areas and into the proposed Eagle Peak Mendocino County viticultural area, which is characterized by steeper upland terrain. The petition also notes that modifying the boundaries of the Mendocino and Redwood Valley viticultural areas would result in two vineyards, totaling 50 acres, being entirely within the proposed Eagle Peak Mendocino County viticultural area. Currently, both vineyards are split between the Mendocino and Redwood Valley viticultural areas.

Overview of the Mendocino Viticultural Area

The 327,437-acre Mendocino viticultural area was established by T.D. ATF-178, which was published in the Federal Register on June 15, 1984 (49 FR 24711). The Mendocino viticultural area is described as a mixture of upland and valley floor, with warmer winters and cooler summers than those found in the eastern interior area. T.D. ATF-178 also describes the Mendocino viticultural area as having a transitional climate, where the climate of the region varies from cool, moist, coastal-influenced conditions to warm, dry periods characteristic of regions farther inland. The average growing season is 268 days, with annual precipitation amounts averaging 39.42 inches.

The Mendocino viticultural area encompasses the agricultural areas of the southernmost third of Mendocino County. Mountain ridges surrounding the area define the upper limits of the Russian River and Navarro River drainage basins. The ridges, with peaks to 3,500 feet in elevation, provide a natural boundary for the climate of the Mendocino viticultural area. Most grapes grow at elevations between 250 and 1,100 feet, with some growth as high as 1,600 feet.

T.D. ATF-178 made no comparisons of the Mendocino viticultural area to the area identified in this proposed rule as the proposed Eagle Peak Mendocino County viticultural area.

Overview of the Redwood Valley Viticultural Area

The 32,047-acre Redwood Valley viticultural area was established by T.D. ATF-386, which was published in the Federal Register on December 23, 1996 (61 FR 67466). The primary feature of the viticultural area is a low-elevation, gently sloping valley floor. The boundary of the viticultural area roughly follows the watershed that forms the headwaters of the western fork of the Russian River, including Forsythe Creek, whose watershed is encompassed by the proposed Eagle Peak Mendocino County viticultural area. The southern end of Redwood Valley forms a narrow funnel shape near the small town of Calpella. The Russian River runs southward through the funnel and exits the Redwood Valley viticultural area as it flows to the Pacific Ocean.

The distinguishing features of the Redwood Valley viticultural area, as described in T.D. ATF-386, include climate, rainfall, and soils. The climate of the Redwood Valley viticultural area is cooler than the Ukiah Valley to the south, but warmer than the Anderson Valley viticultural area to the west. The climate is cool enough within the Redwood Valley viticultural area that harvest occurs later than in the Ukiah Valley, but still takes place earlier than in the Anderson Valley viticultural area. The Redwood Valley viticultural area averages 39.62 inches of precipitation annually, which is 22 percent more than in Ukiah Valley. Additionally, T.D. ATF-386 describes the Redwood Valley viticultural area as having the largest deposit of Redvine Series soil in the area, as well as large amounts of Pinole Gravelly Loam. T.D. ATF-386 made no comparisons of Redwood Valley to the area identified in this Notice as the proposed Eagle Peak Mendocino County viticultural area.

Comparison of Distinguishing Features Within the Proposed Realignment Areas to the Redwood Valley and Mendocino Viticultural Areas

TTB notes that the Mendocino viticultural area is shaped like an upright letter “V,” and the Redwood Valley viticultural area lies entirely within the northwestern corner of the easternmost arm of the “V.” The proposed Eagle Peak Mendocino County viticultural area sits to the west of the easternmost arm of the “V” and partially overlaps it as well as a portion of the Redwood Valley viticultural area. The petitions to establish the proposed Eagle Peak Mendocino County viticultural area and modify the boundaries of the Mendocino and Redwood Valley viticultural areas emphasize that the characteristics of the areas that will no longer be part of the Mendocino and Redwood Valley viticultural areas (hereinafter referred to as the realignment areas) are more similar to those of the proposed Eagle Peak Mendocino County viticultural area than those of the two existing viticultural areas.

The topography of the realignment areas is consistent with that of the high elevations and steep terrain of the proposed Eagle Peak Mendocino County viticultural area. The petitioner calculated the slope angles and elevations of the realignment areas and the Mendocino and Redwood Valley viticultural areas using USGS maps. The proposed realignment areas have moderate-to-steeply-sloped rugged terrain, 30 to 50 percent slope angles, and 800- to 2,500-foot elevations. By contrast, the region to the east of the realignment areas, farther within the Mendocino and Redwood Valley viticultural areas, is nearly level valley terrain with slopes between 2 and 8 percent and general elevations of 700 feet.

The realignment areas also have cooler climates than the rest of the Redwood Valley viticultural area and the neighboring eastern portion of the Mendocino viticultural area. The closest towns to the realignment areas that are located within the Mendocino and Redwood Valley viticultural areas are Ukiah and Redwood Valley, respectively. Data collected from the weather stations in these two towns shows the number of days per year with temperatures over 90 degrees F averages 80 in Ukiah and 64 in Redwood Valley. By contrast, data gathered from Masut Vineyards, within the proposed realignment area, averages only 34 days with temperatures above 90 degrees F, which is closer to the average of 22 days per year for the entire proposed Eagle Peak Mendocino County viticultural area.

The cooler temperatures of the realignment areas and proposed viticultural area are partially due to the strong breezes that flow through the Big River airflow corridor. The northeastern portion of the Mendocino viticultural area and the Redwood Valley viticultural area, by contrast, do not have strong breezes, mostly due to their greater distances from the airflow corridor. Masut Vineyards, within the proposed realignment areas, averaged windspeeds of almost 7 miles per hour during the 2009 growing season, compared to an average of 2 miles per hour within Elizabeth Vineyards, in the Redwood Valley viticultural area. The difference between the recorded average windspeed for gusts is even greater, with an average gust speed of almost 13 miles per hour for Masut Vineyards, compared to 4.5 miles per hour for Elizabeth Vineyards. The petitioner did not provide windspeed data for any location within the Mendocino viticultural area.

The soils of the realignment areas are more similar to those of the proposed Eagle Peak Mendocino County viticultural area. As shown on the USDA Soil Survey map for eastern Mendocino County, the soil within the realignment area is primarily of the Yorktree-Yorkville-Squawrock association, similar to the majority of the soil within the proposed Eagle Peak Mendocino County viticultural area. By contrast, the soils in the neighboring portions of the Mendocino and Redwood Valley viticultural areas are primarily alluvial soils of the Hopland-Sanhedrin-Kekawaka and Pinole-Yokayo-Redvine associations. The rooting depths within the proposed realignment areas and the proposed Eagle Peak Mendocino County viticultural area are as low as 4 to 10 inches, while the valley areas within the existing viticultural areas to the east have 60 inches or more consistent rooting depth. The shallower upland soils have lower water-holding capacity than the deeper soils of the valley areas. Further, the thicker alluvial soils of the valleys are more vigorous than in the upland areas of the realignment area, meaning that different viticultural practices, such as canopy management techniques, are required in the valleys.

TTB Determination

TTB concludes that the petitions to establish the 22,266-acre “Eagle Peak Mendocino County” American viticultural area and to concurrently modify the boundaries of the existing Mendocino and Redwood Valley viticultural areas merit consideration and public comment, as invited in this document.

TTB is proposing the establishment of the new viticultural area and the modifications of the two existing viticultural areas as one action. Accordingly, if TTB establishes the proposed Eagle Peak Mendocino County viticultural area, then the proposed boundary modifications of the Mendocino and Redwood Valley viticultural areas would be approved concurrently. If TTB does not establish the proposed Eagle Peak Mendocino County viticultural area, then the present Mendocino and Redwood Valley viticultural area boundaries would not be modified as proposed in this document.

Boundary Description

See the narrative boundary descriptions of the petitioned-for viticultural area and the boundary modification of the two established viticultural areas in the proposed regulatory text published at the end of this document.

TTB notes that the boundary of the proposed Eagle Peak Mendocino County viticultural area and the related modifications to the Mendocino and Redwood Valley viticultural areas differ slightly from those outlined in the original petitions. With the petitioner's agreement, TTB made several small adjustments to the originally-proposed boundaries in order to use features found on all three map sets, since the Mendocino area's maps are of a different scale than those used for the other two areas. The petitioner also revised the proposed Eagle Peak Mendocino County boundary in order to eliminate the inclusion of some Redwood Valley floor land in the proposed viticultural area's southeastern corner.

Maps

The petitioner provided the required maps, and TTB lists them below in the proposed regulatory text.

Impact on Current Wine Labels

Part 4 of the TTB regulations prohibits any label reference on a wine that indicates or implies an origin other than the wine's true place of origin. If TTB establishes this proposed viticultural area, its name, “Eagle Peak Mendocino County,” would be recognized as a name of viticultural significance under 27 CFR 4.39(i)(3). The text of the proposed regulation clarifies this point.

TTB does not believe that “Eagle Peak,” standing alone, would have viticultural significance in relation to this proposed viticultural area, due to the widespread use of “Eagle Peak” as a geographical name. GNIS shows the name “Eagle Peak” used in reference to 73 locations in 15 States. Furthermore, TTB notes that the terms “Mendocino” and “Mendocino County” are already established terms of viticultural significance. “Mendocino” refers to the established Mendocino viticultural area (27 CFR 9.93), while “Mendocino County” is a term of viticultural significance as a county appellation of origin under 27 CFR 4.39(i)(3), which states that a name has viticultural significance when it is the name of a county. Because the term “Mendocino” is already an established term of viticultural significance, TTB also does not believe that the phrase “Eagle Peak Mendocino,” standing alone, would have viticultural significance with regards to this proposed viticultural area. Therefore, the proposed part 9 regulatory text set forth in this document specifies only “Eagle Peak Mendocino County” as a term of viticultural significance for purposes of part 4 of the TTB regulations.

If this proposed regulatory text is adopted as a final rule, wine bottlers using “Eagle Peak Mendocino County” in a brand name, including a trademark, or in another label reference as to the origin of the wine, would have to ensure that the product is eligible to use the viticultural area's full name “Eagle Peak Mendocino County” as an appellation of origin. If approved, the establishment of the proposed Eagle Peak Mendocino County viticultural area and the proposed modifications of the Mendocino and Redwood Valley viticultural area boundaries would allow vintners to use “Eagle Peak Mendocino County,” “Mendocino County,” or “North Coast” as appellations of origin for wines made from grapes grown within the Eagle Peak Mendocino County viticultural area, if the wines meet the eligibility requirements for the appellation.

Use of “Mendocino County” and “North Coast” as Appellations of Origin

If TTB approves establishment of the proposed Eagle Peak Mendocino County viticultural area and the proposed modifications of the boundaries of Mendocino and Redwood Valley viticultural areas, any bottlers using “Mendocino County” as an appellation of origin or in a brand name for wines made from grapes grown within Mendocino County would not be affected. Additionally, neither the establishment of the proposed Eagle Peak Mendocino County viticultural area nor approval of the proposed boundary modifications would affect any bottlers using “North Coast” as an appellation of origin or in a brand name for wines made from grapes grown within the North Coast viticultural area.

Use of “Mendocino” as an Appellation of Origin

If the proposed Eagle Peak Mendocino County viticultural area and the corresponding modification of the Mendocino viticultural area boundary are approved, bottlers currently using “Mendocino” standing alone as an appellation of origin for wine produced primarily from grapes grown in the areas removed from the Mendocino viticultural area would no longer be able to use “Mendocino” standing alone as an appellation of origin. Bottlers currently using “Mendocino” in a brand name for wine produced primarily from grapes grown in the areas removed from the Mendocino viticultural area would also no longer be able to use the term “Mendocino” in the brand name, but could use the terms “Mendocino County” or “Eagle Peak Mendocino County” in the brand name if otherwise eligible. See the “Transition Period” section of this document for more details.

Bottlers currently using “Mendocino” as an appellation of origin or in a brand name for wine produced from grapes grown within the current, and if modified, Mendocino viticultural area would still be eligible to use the term as an appellation of origin or in a brand name.

Use of “Redwood Valley” as an Appellation of Origin

If the proposed Eagle Peak Mendocino County viticultural area and the corresponding modification of the Redwood Valley viticultural area boundary are approved, bottlers currently using “Redwood Valley” as an appellation of origin or in a brand name for wine produced primarily from grapes grown in the areas removed from the Redwood Valley viticultural area would no longer be able to use “Redwood Valley” as an appellation of origin or in a brand name. See the “Transition Period” section of this document for more details.

Bottlers currently using “Redwood Valley” as an appellation of origin or in a brand name for wine produced from grapes grown within the current, and if modified, Redwood Valley viticultural area would still be eligible to use the term as an appellation of origin or in a brand name.

Transition Period

If the proposals to establish the Eagle Peak Mendocino County viticultural area and to modify the boundaries of the Mendocino and Redwood Valley viticultural areas are adopted as a final rule, a transition rule will apply to labels for wines produced from grapes grown in the area removed from the Mendocino and Redwood Valley viticultural areas. A label containing the words “Mendocino” (other than in the phrase “Mendocino County” or “Eagle Peak Mendocino County”) or “Redwood Valley” in the brand name or as an appellation of origin may be used on wine bottled within two years from the effective date of the final rule, provided that such label was approved prior to the effective date of the final rule and that the wine conforms to the standards for use of the label set forth in 27 CFR 4.25 or 4.39(i) in effect prior to the final rule. At the end of this two-year transition period, if a wine is no longer eligible for labeling with the “Mendocino” or “Redwood Valley” viticultural area names (e.g., it is primarily produced from grapes grown in the areas removed from the Mendocino and Redwood Valley viticultural areas), then a label containing the words “Mendocino” (other than in the phrase “Mendocino County” or “Eagle Peak Mendocino County”) or “Redwood Valley” in the brand name or as an appellation of origin would not be permitted on the bottle. TTB believes that the two-year period should provide affected label holders with adequate time to use up any existing labels. This transition period is described in the proposed regulatory text for the Mendocino and Redwood Valley viticultural areas published at the end of this notice.

TTB notes that wine eligible for labeling with the “Mendocino” or “Redwood Valley” viticultural area names under the proposed new boundary of the Mendocino and Redwood Valley viticultural areas will not be affected by this two-year transition period. Furthermore, if TTB does not approve the proposed boundary modifications, then all wine label holders currently eligible to use the “Mendocino” and “Redwood Valley” viticultural area names would be allowed to continue to use their labels as originally approved.

Public Participation

Comments Invited

TTB invites comments from interested members of the public on whether TTB should establish the proposed Eagle Peak Mendocino County viticultural area and concurrently modify the boundaries of the established Mendocino and Redwood Valley viticultural areas. TTB is interested in receiving comments on the sufficiency and accuracy of the name, boundary, climate, geology, topography, soils, and other required information submitted in support of the Eagle Peak Mendocino County viticultural area petition. In addition, given the proposed Eagle Peak Mendocino County viticultural area's location within the existing North Coast viticultural area, TTB is interested in comments on whether the evidence submitted in the petition regarding the distinguishing features of the proposed viticultural area sufficiently differentiates it from the existing North Coast viticultural area. TTB is also interested in comments on whether the geographic features of the proposed viticultural area are so distinguishable from the North Coast viticultural area that the proposed Eagle Peak Mendocino County viticultural area should no longer be part of the North Coast viticultural area. Please provide any available specific information in support of your comments.

TTB also invites comments on the proposed modifications of the existing Mendocino and Redwood Valley viticultural areas. TTB is especially interested in comments on whether the evidence provided sufficiently differentiates the realignment areas from the existing Mendocino and Redwood Valley viticultural areas. Comments should address the name usage, boundaries, climate, topography, soils, and any other pertinent information that supports or opposes the proposed boundary modifications.

Because of the potential impact of the establishment of the proposed Eagle Peak Mendocino County viticultural area on wine labels that include the terms “Eagle Peak Mendocino County,” “Redwood Valley,” or “Mendocino” as discussed above under Impact on Current Wine Labels, TTB is particularly interested in comments regarding whether there will be a conflict between the proposed area name and currently used brand names. If a commenter believes that a conflict will arise, the comment should describe the nature of that conflict, including any anticipated negative economic impact that approval of the proposed viticultural area will have on an existing viticultural enterprise. TTB is also interested in receiving suggestions for ways to avoid conflicts, for example, by adopting a modified or different name for the viticultural area.

Clarification of Redwood Valley's Southern Boundary

In addition, TTB is proposing to clarify the description of a way point along the Redwood Valley viticultural area's southern boundary. Currently, the viticultural area's southern boundary includes a way point described as “the intersection of State Highway 20 and U.S. 101 * * *” (see § 9.153(c)(8)). Since this intersection is shown on the Ukiah map as a large highway interchange with various on- and off-ramps between the two highways, TTB wishes to clarify this way point as “the intersection of State Highway 20 and a road known locally as North State Street (old U.S. Highway 101), north of Calpella * * *.” TTB believes this clarification does not relocate the viticultural area's southern boundary as currently understood. However, TTB requests comments from any Redwood Valley vintner who believes this proposed change may affect their ability to use the Redwood Valley viticultural area as an appellation of origin.

Submitting Comments

You may submit comments on this proposal by using one of the following three methods:

• Federal e-Rulemaking Portal: You may send comments via the online comment form posted with this document within Docket No. TTB-2013-0004 on “Regulations.gov,” the Federal e-rulemaking portal, at http://www.regulations.gov. A direct link to that docket is available under Notice No. 135 on the TTB Web site at http://www.ttb.gov/wine/wine-rulemaking.shtml. Supplemental files may be attached to comments submitted via Regulations.gov. For complete instructions on how to use Regulations.gov, visit the site and click on the “Help” tab at the top of the page.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200E, Washington, DC 20005.

Please submit your comments by the closing date shown above in this document. Your comments must reference Notice No. 135 and include your name and mailing address. Your comments also must be made in English, be legible, and be written in language acceptable for public disclosure. We do not acknowledge receipt of comments, and we consider all comments as originals.

Your comment must clearly state if you are commenting on your own behalf or on behalf of an organization, business, or other entity. If you are commenting on behalf of an organization, business, or other entity, your comment must include the entity's name as well as your name and position title. If you comment via Regulations.gov, please enter the entity's name in the “Organization” blank of the online comment form. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this document, selected supporting materials, and any online or mailed comments received about this proposal within Docket No. TTB-2013-0004 on the Federal e-rulemaking portal, Regulations.gov, at http://www.regulations.gov. A direct link to that docket is available on the TTB Web site at http://www.ttb.gov/wine/wine-rulemaking.shtml under Notice No. 135. You may also reach the relevant docket through the Regulations.gov search page at http://www.regulations.gov. For instructions on how to use Regulations.gov, visit the site and click on the “Help” tab at the top of the page.

All posted comments will display the commenter's name, organization (if any), city, and State, and, in the case of mailed comments, all address information, including email addresses. TTB may omit voluminous attachments or material that it considers unsuitable for posting.

You also may view copies of this document, all related petitions, maps and other supporting materials, and any electronic or mailed comments we receive about this proposal by appointment at the TTB Information Resource Center, 1310 G Street NW., Washington, DC 20005. You may also obtain copies at 20 cents per 8.5- x 11-inch page. Contact our information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

Karen A. Thornton of the Regulations and Rulings Division drafted this document.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Amend § 9.93 by revising paragraph (c)(7), redesignating paragraphs (c)(8) through (19) as paragraphs (c)(16) through (27), and adding new paragraphs (c)(8) through (15), and adding paragraph (d) to read as follows:

§ 9.93 Mendocino.

* * * * *

(c) * * *

(7) Thence due west along the T.18N./T.17N. common line until the common line intersects with the R.13W./R.12W. common line;

(8) Thence in a straight line in a south-southwesterly direction, crossing onto the Willits map, to the intersection of the 1,600-foot contour line and Baker Creek (within McGee Canyon) along the west boundary line of Section 25, T.17N./R.13W.;

(9) Thence in a southeasterly direction (downstream) along Bakers Creek to where the creek intersects with the 1,400-foot contour line in Section 25, T.17N/R.13W.;

(10) Thence in a straight line in a southeasterly direction to the southeast corner of Section 36, T.17N./R.13W.;

(11) Thence in a straight line in a west-southwesterly direction to the intersection of U.S. Highway 101 and an unnamed road known locally as Reeves Canyon Road in Section 1, T.16N./R.13W.;

(12) Thence in a straight line in a southeasterly direction to the southeast corner of Section 1, T.16N./R.13W.;

(13) Thence in a straight line in a south-southwesterly direction to the intersection of an unnamed, unimproved road and an unnamed, intermittent stream, approximately 500 feet south of Seward Creek, in section 12, T.16N./R.13W.;

(14) Thence in a straight line in a west-southwesterly direction to the southwest corner of Section 12, T.16N./R.13W.;

(15) Thence in a straight line in a southwesterly direction to the southwest corner of Section 14, T.16N./R.13W.;

* * * * *

(d) Transition period. A label containing the word “Mendocino” in the brand name (other than in the phrase “Mendocino County” or “Eagle Peak Mendocino County”) or as an appellation of origin approved prior to [EFFECTIVE DATE OF THE FINAL RULE] may be used on wine bottled before [DATE 2 YEARS FROM EFFECTIVE DATE OF THE FINAL RULE] if the wine conforms to the standards for use of the label set forth in § 4.25 or § 4.39(i) of this chapter in effect prior to [EFFECTIVE DATE OF THE FINAL RULE].

3. Amend § 9.153 by revising paragraphs (c)(1) through (9) and adding paragraphs (c)(10) through (12) and (d) to read as follows:

§ 9.153 Redwood Valley.

* * * * *

(c) * * *

(1) The beginning point is in the northeastern portion of the Ukiah map at the point where State Highway 20 crosses the R11W/R12W range line along the south bank of the East Fork of the Russian River, T16N/R12W. From the beginning point, proceed north along the R11W/R12W range line, crossing onto the Redwood Valley map, to the northeast corner of section 1, T16N/R12W; then

(2) Proceed west along the northern boundary of section 1 to the section's northwest corner, T16N/R12W; then

(3) Proceed north along the eastern boundary lines of sections 35, 26, 23, 14, 11, and 2 to the T17N/T18N common boundary line at the northeast corner of section 2, T17N/R12W; then

(4) Proceed west along the T17N/T18N common line to the northwest corner of section 6, T17N/R12W; then

(5) Proceed south-southwesterly in a straight line, crossing onto the Laughlin Range map, to the intersection of the 1,400-foot contour line and Bakers Creek within McGee Canyon, section 25, T17N/R13W; then

(6) Proceed southeasterly in a straight line approximately 1.5 miles, crossing onto the Redwood Valley map, to the southeast corner of section 36, T17N/R13W; then

(7) Proceed west-southwesterly in a straight line approximately 0.55 mile, crossing onto the Laughlin Range map, to the intersection of U.S. Highway 101 and an unnamed road known locally as Reeves Canyon Road, section 1, T16N/R13W; then

(8) Proceed southeasterly in a straight line approximately 0.9 mile, crossing onto the Redwood Valley map, to the southeast corner of section 1, T16N/R13W; then

(9) Proceed south-southwesterly in a straight line approximately 0.65 mile to the intersection of an unnamed, unimproved road and an unnamed, intermittent stream, approximately 500 feet south of Seward Creek, section 12, T16N/R13W; then

(10) Proceed west-southwesterly in a straight line approximately 0.9 mile, crossing onto the Laughlin Range map, to the southwest corner of section 12, T16N/R13W; then

(11) Proceed east-southeasterly in a straight line, crossing onto the far northeastern corner of the Orrs Springs map, then continuing onto the Ukiah map, to the intersection of State Highway 20 and a road known locally as North State Street (old U.S. Highway 101), north of Calpella, T16N/R12W; then

(12) Proceed easterly along State Highway 20, returning to the beginning point.

(d) Transition period. A label containing the words “Redwood Valley” in the brand name or as an appellation of origin approved prior to [EFFECTIVE DATE OF THE FINAL RULE] may be used on wine bottled before [DATE 2 YEARS FROM EFFECTIVE DATE OF THE FINAL RULE] if the wine conforms to the standards for use of the label set forth in § 4.25 or § 4.39(i) of this chapter in effect prior to [EFFECTIVE DATE OF THE FINAL RULE].

4. Add § 9._____ to read as follows:

§ 9. Eagle Peak Mendocino County.

(a) Name. The name of the viticultural area described in this section is “Eagle Peak Mendocino County”. For purposes of part 4 of this chapter, “Eagle Peak Mendocino County” is a term of viticultural significance.

(b) Approved maps. The four United States Geographical Survey (USGS) 1:24,000 scale topographic maps used to determine the boundary of the Eagle Peak Mendocino County viticultural area are titled:

(1) Laughlin Range, California, provisional edition 1991;

(2) Redwood Valley, Calif., 1960, photo revised 1975;

(3) Orrs Springs, California, provisional edition 1991; and

(4) Greenough Ridge, California, provisional edition 1991.

(c) Boundary. The Eagle Peak Mendocino County viticultural area is located in Mendocino County, California. The boundary of the Eagle Peak Mendocino County viticultural area is as follows:

(1) The beginning point is located on the Laughlin Range map within McGee Canyon at the point where the 1,600-foot contour line intersects with Bakers Creek near the western boundary of section 25, T17N/R13W. From the beginning point, proceed southeasterly (downstream) approximately 0.2 mile along Bakers Creek to the creek's intersection with the 1,400-foot contour line, section 25, T17N/R13W; then

(2) Proceed southeasterly in a straight line approximately 1.5 miles, crossing onto the Redwood Valley map, to the southeast corner of section 36, T17N/R13W; then

(3) Proceed west-southwesterly in a straight line approximately 0.55 mile, crossing onto the Laughlin Range map, to the intersection of U.S. Highway 101 and an unnamed road locally known as Reeves Canyon Road, section 1, T16N/R13W; then

(4) Proceed southeasterly in a straight line approximately 0.9 mile, crossing onto the Redwood Valley map, to the southeast corner of section 1, T16N/R13W; then

(5) Proceed south-southwesterly in a straight line approximately 0.65 mile to the intersection of an unnamed, unimproved road and an unnamed intermittent stream located approximately 500 feet south of Seward Creek, section 12, T16N/R13W; then

(6) Proceed west-southwesterly in a straight line approximately 0.9 mile, crossing onto the Laughlin Ridge map, to the southwest corner of section 12, T16N/R13W; then

(7) Proceed west-southwesterly in a straight line approximately 0.8 mile, crossing onto the Orrs Springs map, to the 1,883-foot elevation point in section 14, T16N/R13W; then

(8) Proceed west-southwesterly in a series of three straight lines (totaling approximately 3.15 miles in distance), first to the 1,836-foot elevation point in section 15, T16N/R13W; then to the 1,805-foot elevation point in section 16, T16N/R13W; and then to the 2,251-foot elevation point in section 20, T16W/R13W; then

(9) Proceed south-southwesterly in a straight line approximately 0.8 mile to the 2,562-foot elevation point, section 20, T16N/R13W; then

(10) Proceed north-northwesterly in a straight line approximately 0.8 mile to the 2,218-foot elevation point, section 19, T16N/R13W; then

(11) Proceed northeasterly in a straight line approximately 0.35 mile to the 2,112-foot elevation point in the southeast corner of section 18, T16N/R13W; then

(12) Proceed north-northeasterly in a straight line approximately 0.9 mile to the 2,344-foot elevation point, section 17, T16N/R13W; then

(13) Proceed northwesterly in a straight line approximately 1.8 miles, crossing onto the Laughlin Range map, to the intersection of the R13W/R14W common boundary line and an unnamed, unimproved road east of Leonard Lake, section 1, T16N/R14W; then

(14) Proceed west-northwesterly along the unnamed, unimproved road to the road's intersection with the 2,000 foot contour line between Leonard Lake and Mud Lake, section 1, T16N/R13W; then

(15) Proceed north-northwesterly in a straight line approximately 1.6 miles, crossing onto the Greenough Ridge map, to the 2,246-foot elevation point, section 26, T17N/R14W; then

(16) Proceed northerly in a straight line approximately 0.9 mile to the 2,214-foot elevation point, section 23, T17N/R14W; then

(17) Proceed northeasterly in a straight line approximately 1 mile, crossing onto the Laughlin Range map, to the peak of Impassable Rocks, section 24, T17N/R14W; then

(18) Proceed northwesterly in a straight line approximately 0.95 mile, crossing onto the Greenough Ridge map, to the 2,617-foot elevation point, section 14, T17N/R14W, and continue northwesterly in a straight line approximately 0.8 mile to the 2,836-foot elevation point of Irene Peak, section 11, T17N/R14W; then

(19) Proceed northerly in a straight line approximately 1 mile to the intersection of 3 unnamed unimproved roads approximately 0.3 mile west of the headwaters of Walker Creek (locally known as the intersection of Blackhawk Drive, Walker Lake Road, and Williams Ranch Road) section 2, T17N/R14W; then

(20) Proceed easterly along the unnamed improved road, locally known as Blackhawk Drive, approximately 1.35 miles, crossing onto the Laughlin range map, to the road's intersection with the section 2 eastern boundary line, T17N/R14W; then

(21) Proceed east-northeasterly in a straight line approximately 0.75 mile, returning to the 2,213 elevation point near the northeast corner of section 1, T17N/R14W; then

(22) Proceed southeasterly in a straight line approximately 3.55 miles to BM 1893 (0.2 mile south of Ridge) in section 16, T17N/R13W, and then continue southeasterly in a straight line approximately 0.85 mile to a radio facility located at approximately 2,840 feet in elevation in the Laughlin Range, section 15, T17N/R13W; then

(23) Proceed easterly in a straight line approximately 0.85 mile to another radio facility located at approximately 3,320 feet in elevation in the Laughlin Range, section 14, T17N/R13W; then

(24) Proceed southerly in a straight line approximately 1.5 miles to the 2,452-foot elevation point in section 26, T17N/R13W; then

(25) Proceed southeasterly in a straight line approximately 0.4 mile to the intersection of the 1,800-foot contour line with Bakers Creek within McGee Canyon, section 26, T17N/R13W; then

(26) Proceed southeasterly (downstream) approximately 0.2 mile along Bakers Creek, returning to the beginning point.

Dated: June 18, 2013.
John J. Manfreda,
Administrator.

[FR Doc. 2013-15247 Filed 6-26-13; 8:45 am]

BILLING CODE 4810-31-P